DEPARTMENT OF THE INTERIOR

National Park Service

[NPS-WASO-NAGPRA-14794; PPWOCRADN0-PCU00RP14.R50000]

Notice of Inventory Completion: U.S. Department of the Interior, National Park Service, Lake Roosevelt National Recreation Area, Coulee Dam, WA

AGENCY: National Park Service, Interior.

ACTION: Notice.

SUMMARY: The U.S. Department of the Interior, National Park Service, Lake Roosevelt National Recreation Area has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Lake Roosevelt National Recreation Area. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Lake Roosevelt National Recreation Area at the address in this notice by March 7, 2014.

ADDRESSES: Dan A. Foster, Superintendent, Lake Roosevelt National Recreation Area, 1008 Crest Drive, Coulee Dam, WA 99116, telephone (509) 754-7812, email Dan_A_Foster@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Lake Roosevelt National Recreation Area, Coulee Dam, WA, and in the physical custody of the Museum of Anthropology at Washington State University, Pullman, WA. The human remains and associated funerary objects were removed from Lincoln County, WA.

This notice is published as part of the National Park Service's administrative responsibilities under NAGPRA, 25 U.S.C. 3003(d)(3). The determinations in this notice are the sole responsibility of the Superintendent, Lake Roosevelt National Recreation Area.

Consultation

A detailed assessment of the human remains was made by Lake Roosevelt National Recreation Area professional staff in consultation with representatives of the Spokane Tribe of the Spokane Reservation.

History and Description of the Remains

In 1967, human remains representing, at minimum, one individual were removed from a heavily disturbed area at site 45LI06 in Lincoln County, WA, by Roderick Sprague of the University of Idaho. The remains were housed at the University of Idaho until 2000, when they were transferred to the Museum of Anthropology at Washington State University. No known individuals were identified. The 20 associated funerary objects are 1 pestle fragment, 1 flaked stone spall, 3 projectile points, 1 stone flake, 2 projectile point tip fragments, 3 crockery fragments, 2 glass bottle fragments, 6 ceramic fragments, and 1 lot of burned grave marker post fragments.

Archeological data indicate that site 45LI06 was a major village, fishing location, and burial site, which was occupied from approximately 5000-600 B.P. The site is part of a complex along the Spokane River that includes named Spokane Indian villages, camps, procurement sites, and burial sites. Ethnohistorical data indicate that this area of the river was occupied by a group that researchers termed the Middle Spokane (sqåsi'łni), named after an early contact village located upstream of site 45LI06. The Middle Spokane was one of three major groups that make up the Spokane Tribe of the Spokane Reservation. Oral tradition also documents that this area of the Spokane River was occupied by the ancestors of the Spokane Tribe of the Spokane Reservation.

Determinations Made by Lake Roosevelt National Recreation Area

Officials of Lake Roosevelt National Recreation Area have determined that:

• Pursuant to 25 U.S.C. 3001(9), the human remains described in this notice represent the physical remains of one individual of Native American ancestry.

• Pursuant to 25 U.S.C. 3001(3)(A), the 20 objects described in this notice are reasonably believed to have been placed with or near individual human remains at the time of death or later as part of the death rite or ceremony.

• Pursuant to 25 U.S.C. 3001(2), there is a relationship of shared group identity that can be reasonably traced between the Native American human remains and associated funerary objects and the Spokane Tribe of the Spokane Reservation.

Additional Requestors and Disposition

Lineal descendants or representatives of any Indian tribe or Native Hawaiian organization not identified in this notice that wish to request transfer of control of these human remains and associated funerary objects should submit a written request with information in support of the request to Dan A. Foster, Superintendent, Lake Roosevelt National Recreation Area, 1008 Crest Drive, Coulee Dam, WA 99116, telephone (509) 754-7812, email Dan_A_Foster@nps.gov, by March 7, 2014. After that date, if no additional requestors have come forward, transfer of control of the human remains and associated funerary objects to the Spokane Tribe of the Spokane Reservation may proceed.

Lake Roosevelt National Recreation Area is responsible for notifying the Spokane Tribe of the Spokane Reservation that this notice has been published.

Dated: January 9, 2014.
Melanie O'Brien,
Acting Manager, National NAGPRA Program.

[FR Doc. 2014-02308 Filed 2-4-14; 8:45 am]

BILLING CODE 4312-50-P